DEPARTMENT OF TRANSPORTATION

Federal Aviation Administration

14 CFR Part 39

[Docket No. FAA-2025-2266; Project Identifier MCAI-2024-00406-A; Amendment 39-23123; AD 2025-17-13]

RIN 2120-AA64

Airworthiness Directives; Costruzioni Aeronautiche Tecnam S.p.A. Airplanes

AGENCY: Federal Aviation Administration (FAA), DOT.

ACTION: Final rule; request for comments.

SUMMARY: The FAA is adopting a new airworthiness directive (AD) for certain Costruzioni Aeronautiche Tecnam S.p.A. (Tecnam) Model P-Mentor airplanes. This AD was prompted by the failure of the pilot seat locking mechanism. This AD requires an initial and repetitive inspections of the seat rails of pilot and co-pilot seats and completing corrective action as needed. This AD includes an optional terminating action for the inspection requirement. The FAA is issuing this AD to address the unsafe condition on these products.

DATES: This AD is effective September 26, 2025.

The Director of the Federal Register approved the incorporation by reference of certain publications listed in this AD as of September 26, 2025.

The FAA must receive comments on this AD by October 27, 2025.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-2266; or in person at Docket Operations between 9 a.m. and 5 p.m., Monday through Friday, except Federal holidays. The AD docket contains this final rule, the mandatory continuing airworthiness information (MCAI), any comments received, and other information. The street address for Docket Operations is listed above.

Material Incorporated by Reference:

• For Tecnam material identified in this AD, contact Tecnam, Via Maiorise, 81043 Capua CE, Italy; phone: +39 0823 622297; email: technical.support@tecnam.com; website: tecnam.com.

• You may view this material at the FAA, Airworthiness Products Section, Operational Safety Branch, 901 Locust, Kansas City, MO 64106. For information on the availability of this material at the FAA, call (817) 222-5110. It is also available at regulations.gov under Docket No. FAA-2025-2266.

FOR FURTHER INFORMATION CONTACT: Ramon Walker Perez, Aviation Safety Engineer, FAA, 1600 Stewart Avenue, Suite 410, Westbury, NY 11590; phone: (847) 294-7337; email: ramon.a.walker.perez@faa.gov.

SUPPLEMENTARY INFORMATION:

Comments Invited

The FAA invites you to send any written data, views, or arguments about this final rule. Send your comments using a method listed under the ADDRESSES section. Include “Docket No. FAA-2025-2266; Project Identifier MCAI-2024-00406-A” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Ramon Walker Perez, Aviation Safety Engineer, FAA, 1600 Stewart Avenue, Suite 410, Westbury, NY 11590. Any commentary that the FAA receives which is not specifically designated as CBI will be placed in the public docket for this rulemaking.

Background

The European Union Aviation Safety Agency (EASA), which is the Technical Agent for the Member States of the European Union, has issued EASA AD 2024-0138, dated July 11, 2024 (also referred to as the MCAI), to correct an unsafe condition on certain Tecnam Model P-Mentor airplanes. The MCAI states there was a report of failure of the pilot seat locking mechanism that could lead to the pilot seat unlocking during flight, possibly resulting in loss of control of the airplane. A subsequent inspection revealed interference between the leather covering of the pilot seat and the seat locking lever. The MCAI requires initial and repetitive inspections of the affected parts and if any discrepancy as defined in the service material is detected contacting Tecnam for repair instructions and accomplishing those instructions accordingly. The MCAI also provides an optional terminating action for the repetitive inspections.

You may examine the MCAI in the AD docket at regulations.gov under Docket No. FAA-2025-2266.

Material Incorporated by Reference Under 1 CFR Part 51

The FAA reviewed TECNAM Service Bulletin SB 738-CS-Ed. 1, Rev. 2, dated July 5, 2024 (TECNAM SB 738-CS-Ed. 1, Rev. 2). This material specifies procedures for inspecting the P-Mentor seat rails.

The FAA also reviewed TECNAM Service Bulletin SB 748-CS-Ed 1, Rev. 0, dated April 22, 2024 (TECNAM SB 748-CS-Ed. 1, Rev. 0). This material specifies the P-Mentor new seat design.

This material is reasonably available because the interested parties have access to it through their normal course of business or by the means identified in the ADDRESSES section.

FAA's Determination

These products have been approved by the civil aviation authority of another country and are approved for operation in the United States. Pursuant to the FAA's bilateral agreement with this State of Design Authority, that authority has notified the FAA of the unsafe condition described in the MCAI and material referenced above. The FAA is issuing this AD after determining that the unsafe condition described previously is likely to exist or develop on other products of the same type design.

AD Requirements

This AD requires accomplishing the actions specified in the material already described, except as discussed under “Differences Between this AD and the Referenced Material.”

Differences Between This AD and the MCAI or Referenced Material

The MCAI specifies to contact the manufacturer for approved repair instructions if it is determined during an inspection that there is any discrepancy detected as described in the referenced service material. This AD requires doing repairs in accordance with a method approved by the FAA; EASA; or Tecnam's EASA Design Organization Approval (DOA). If approved by the DOA, the approval must include the DOA-authorized signature.

The MCAI also specifies that the repetitive inspections of the affected parts (pilot and co-pilot seats) may be accomplished by the pilot-owner, but this AD does not allow the pilot-owner to do those actions.

TECNAM SB 738-CS-Ed. 1, Rev. 2, specifies to report certain information to the manufacturer. This AD does not require this reporting.

Justification for Immediate Adoption and Determination of the Effective Date

Section 553(b) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

The FAA justifies waiving notice and comment prior to adoption of this rule because there are currently no domestic operators of this product. It is unlikely that the FAA will receive any adverse comments or useful information about this AD from any U.S. operator. Accordingly, notice and opportunity for prior public comment are unnecessary, pursuant to 5 U.S.C. 553(b). In addition, for the foregoing reason(s), the FAA finds that good cause exists pursuant to 5 U.S.C. 553(d) for making this amendment effective in less than 30 days.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

There are no costs of compliance with this AD because there are no airplanes with this type certificate on the U.S. Registry.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-17-13 Costruzioni Aeronautiche Tecnam S.p.A: Amendment 39-23123; Docket No. FAA-2025-2266; Project Identifier MCAI-2024-00406-A.

(a) Effective Date

This airworthiness directive (AD) is effective September 26, 2025.

(b) Affected ADs

None.

(c) Applicability

This AD applies to Costruzioni Aeronautiche Tecnam S.p.A. (Tecnam) Model P-Mentor airplanes, serial numbers 1003 through 1056 inclusive, 1064 through 1075 inclusive, 1078 through 1082 inclusive, 1089, 1090, 1118, 1119, 1124, 1125, and 1126, except those having Tecnam modification MOD2010/359 installed or TECNAM Service Bulletin SB 748-CS-Ed. 1, Rev. 0, dated April 22, 2024 (TECNAM SB 748-CS-Ed. 1, Rev. 0), embodied.

(d) Subject

Joint Aircraft System Component (JASC) Code 2500, Cabin Equipment/Furnishings.

(e) Unsafe Condition

This AD was prompted by the failure of the pilot seat locking mechanism. The FAA is issuing this AD to address this unsafe condition. The unsafe condition, if not addressed, could lead to the pilot or co-pilot seat unlocking during flight, possibly resulting in loss of control of the airplane.

(f) Compliance

Comply with this AD within the compliance times specified, unless already done.

(g) Definitions

For the purpose of this AD, the definitions in paragraphs (g)(1) and (2) of this AD apply.

(1) Affected parts: The seat rails of the pilot and co-pilot seats.

(2) Reference material: TECNAM Service Bulletin SB 738-CS-Ed. 1, Rev. 2, dated July 5, 2024 (TECNAM SB 738-CS-Ed. 1, Rev. 2).

(h) Required Actions

(1) Within 5 hours time-in-service (TIS) or 7 days, whichever occurs first after the effective date of this AD, and thereafter at intervals not to exceed 110 hours TIS, inspect each affected part in accordance with Appendix A of the Accomplishment Instructions in TECNAM SB 738-CS-Ed. 1, Rev. 2.

(2) If, during any inspection required by paragraph (h)(1) of this AD, any discrepancy is detected as defined in Appendix A of the Accomplishment Instructions in TECNAM SB 738-CS-Ed. 1, Rev. 2, before further flight, repair the part in accordance with a method approved by the Manager, International Validation Branch, FAA; EASA; or Tecnam's EASA Design Organization Approval (DOA). If approved by the DOA, the approval must include the DOA-authorized signature.

(i) Optional Terminating Action

Modification of an airplane in accordance with the instructions of TECNAM SB 748-CS-Ed. 1, Rev. 0, constitutes terminating action for the repetitive inspections required by paragraph (h)(1) of this AD for that airplane.

(j) No Reporting Requirement

Although TECNAM SB 738-CS-Ed. 1, Rev. 2, specifies to submit information to the manufacturer, this AD does not require that action.

(k) Credit for Previous Actions

You may take credit for the actions required by paragraph (h)(1) of this AD if you performed those actions before the effective date of this AD using TECNAM SB-738-CS-Ed. 1, Rev. 0, or TECNAM SB-738-CS-Ed. 1, Rev. 01.

(l) Special Flight Permits

Special flight permits are prohibited.

(m) Alternative Methods of Compliance (AMOCs)

The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (n) of this AD and email to AMOC@faa.gov. Before using any approved AMOC, notify your appropriate principal inspector, or lacking a principal inspector, the manager of the local flight standards district office/certificate holding district office.

(n) Additional Information

For more information about this AD, contact Ramon Walker Perez, Aviation Safety Engineer, FAA, 1600 Stewart Avenue, Suite 410, Westbury, NY 11590; phone: (847) 294-7337; email: ramon.a.walker.perez@faa.gov.

(o) Material Incorporated by Reference

(1) The Director of the Federal Register approved the incorporation by reference (IBR) of the material listed in this paragraph under 5 U.S.C. 552(a) and 1 CFR part 51.

(2) You must use this material as applicable to do the actions required by this AD, unless the AD specifies otherwise.

(i) TECNAM Service Bulletin SB 738-CS-Ed. 1, Rev. 2, dated July 5, 2024.

(ii) TECNAM Service Bulletin SB 748-CS-Ed 1, Rev. 0, dated April 22, 2024.

(3) For Tecnam material identified in this AD, contact Costruzioni Aeronautiche S.p.A., Via Maiorise, 81043 Capua CE, Italy; phone: +39 0823 622297; email: technical.support@tecnam.com; website: tecnam.com.

(4) You may view this material at the FAA, Airworthiness Products Section, Operational Safety Branch, 901 Locust, Kansas City, MO 64106. For information on the availability of this material at the FAA, call (817) 222-5110.

(5) You may view this material at the National Archives and Records Administration (NARA). For information on the availability of this material at NARA, visit www.archives.gov/federal-register/cfr/ibr-locations or email fr.inspection@nara.gov.

Issued on August 26, 2025.
Steven W. Thompson,
Acting Deputy Director, Compliance & Airworthiness Division, Aircraft Certification Service.

[FR Doc. 2025-17516 Filed 9-10-25; 8:45 am]

BILLING CODE 4910-13-P